DEPARTMENT OF HEALTH AND HUMAN SERVICES

Administration for Children and Families

Statement of Organization, Functions and Delegation of Authority

Notice is hereby given that I have redelegated to the Regional Program Managers, Office of Child Support Enforcement, the following authority vested in me by the Assistant Secretary for Children and Families in the memorandum dated February 16, 2007.

(a) Authority Delegated.

1. The authority to serve as the Approving Official to sign audit determination letters only where resolution does not involve a cost disallowance.

(b) Limitations.

1. This redelegation shall be exercised under financial and administrative requirements applicable to all Administration for Children and Familites authorities.

2. This authority may not be redelegated.

(c) Effective Date.

This redelegation is effective upon the date of signature.

(d) Effect on Existing Delegations.

None.

I hereby affirm and ratify any actions taken by any Regional Program Manager which, in effect, involved the exercise of this authority prior to the effective date of this redelegation.

Dated: August 14, 2007.
Margot Bean,
Deputy Director/Commissioner, Office of Child Support Enforcement.

[FR Doc. 07-4885 Filed 10-2-07; 8:45 am]

BILLING CODE 4184-01-M